NATIONAL CREDIT UNION ADMINISTRATION

Revision of Agency Information Collection of a Previously Approved Collection; Request for Comments

AGENCY: National Credit Union Administration (NCUA).

ACTION: Notice of submission to the Office of Management and Budget.

SUMMARY: As required by the Paperwork Reduction Act of 1995, the National Credit Union Administration (NCUA) is submitting the following extensions and revisions of currently approved collections to the Office of Management and Budget (OMB) for renewal. The revisions are proposed to take effect with the December 31, 2024 report date.

DATES: Written comments should be received on or before November 18, 2024 to be assured consideration.

ADDRESSES: You may submit written comments on the information collection by any of the following methods identified by the OMB Control Number 3133-0204 or by Document Number (Please send comments by one method only):

Federal Register Portal: https://www.federalregister.gov Find this information collection by searching for “National Credit Union Administration”, then selecting “Past 90 days”, and scrolling through the list of documents.

Regulations.gov: https://www.regulations.gov/search?filter=ncua. Find this information collection by scrolling through the search results and looking for Profile Form 2024-Q4.

Rulemakings and Proposals for Comment: https://ncua.gov/regulation-supervision/rulemakings-proposals-comment. NCUA will post a link to the regulations.gov web page where you can submit a comment by selecting Comment.

Mail: 1775 Duke Street, Suite 5067, Alexandria, Virginia 22314.

Fax: 703-519-8161.

Email: PRAComments@NCUA.gov.

FOR FURTHER INFORMATION CONTACT: Copies of the submission may be obtained by contacting Dacia Rogers at (703) 518-6547, emailing PRAComments@ncua.gov, or viewing the entire information collection request at www.reginfo.gov. Enhanced content is also available from the Notice on the Federal Register website (www.federalregister.gov). In addition, copies of the Profile Form and Instructions can be obtained at the NCUA's website (https://ncua.gov/regulation-supervision/regulatory-reporting/cuonline).

SUPPLEMENTARY INFORMATION:

OMB Number: 3133-0204.

Title: NCUA Profile—NCUA Form 4501A.

Type of Review: Revision of a currently approved collection.

Abstract: Sections 106 and 202 of the Federal Credit Union Act require federally insured credit unions to make financial reports to the NCUA. Section 741.6 requires insured credit unions to submit a Credit Union Profile (NCUA Form 4501A) and update the Profile within 10 days of election or appointment of senior management or volunteer officials or 30 days of other changes in Program information. The NCUA website further directs credit unions to review and certify their Profiles every Call Report cycle. Credit union information collected through the Profile is essential to the NCUA supervision of federal credit unions and facilitates the NCUA monitoring of other credit unions with share accounts insured by the National Credit Union Share Insurance Fund (NCUSIF).

Form 4501A Credit Union Profile—Proposed Changes and Comments Received

In the July 26, 2024 notice,¹ the NCUA proposed revisions to the Profile (Form 4501A) including revisions to the General Information, Contacts & Roles, Sites, Payment Systems Service Provider Information, Information Technology, Grants, and Merger Partner Registry tabs. The comment period for the July 2024 notice ended on September 24, 2024. The NCUA received ten comment letters, four of which were irrelevant or did not apply to the actual information collection.

¹ 89 FR 60662 (July 26, 2024).

General Information Tab

The NCUA proposed to collect the name of the credit union's anti-money laundering (AML) monitoring system and separated the question relating to the credit union's field of membership from the Minority Depository Institution (MDI) question relating to current members. The NCUA also updated the instructions for the General Information tab to reflect these changes.

Two commenters objected to the reporting of the name of the credit union's automated AML monitoring system because the information can be collected during an examination. Three commenters objected to the public release of this information.

The NCUA concedes this information can be obtained during an examination. However, if the NCUA had this information beforehand, it would enable the agency to align the assigned examiner's skillset when reviewing the AML monitoring system with the credit union's program. The NCUA can also tailor their training programs to address specific AML monitoring systems.

As with all information on the Profile, the AML monitoring system must be disclosed only once, then would be pre-populated every quarter. Unless the monitoring system changes, the credit union would not need to report this every quarter. Also, as discussed in the Other Comments Received section, system information collected on the Profile will not be publicly released. After consideration of these comments, the NCUA will proceed with the proposed changes.

Contacts & Roles Tab

The NCUA proposed to add indicators for the email address that officials want to use to receive confidential credit union correspondence. The NCUA also updated the instructions for the Contact & Roles tab to reflect this change.

One commenter objected to receiving confidential correspondence via email. The NCUA revised the Profile and changed the indicators to the preferred email address. The NCUA also updated the instructions to reflect this change. Credit unions can use one of the checkboxes to indicate the official's preferred email address. Although the NCUA's Secure File Transfer Portal (SFTP) may be used to share confidential correspondence, when the NCUA or the state supervisory authority shares confidential or other types of correspondence using the SFTP, the recipient receives an email notifying them that items are available in the SFTP. Asking the credit union to identify the official's preferred email address will ensure the NCUA is contacting the official using the preferred method. Besides this comment, the NCUA did not receive any comments and will proceed with these changes.

Sites Tab

The NCUA proposed adding an indicator for credit unions that operate exclusively online and adding Interactive Teller Machines (ITM) to the Public Site Functions. The NCUA also updated the instructions for the Sites tab to reflect these changes. No comments related to these changes were received, so the NCUA will proceed with these changes.

Payment System Service Provider Information Tab

The NCUA proposed adding, removing, or relocating items as noted in the July 26, 2024, Federal Register Notice. One commenter objected to the NCUA extending the timeframe for reporting planned operational changes to 24 months. Since some credit unions are eligible for an extended exam cycle of up to 20 months, the NCUA believes the extension to 24 months will enable exam staff to monitor operations without an onsite presence.

Besides this comment and the concerns with reporting vendor and product information, which are discussed in the Other Comments Received section, the NCUA did not receive any comments and will proceed with these changes.

Information Technology Tab

The NCUA proposed adding, removing, or relocating items as noted in the July 26, 2024, Federal Register Notice. The NCUA identified Remote Deposit Capture was being reported in Item 5 on the Information Technology tab and on the Payment Systems Service Providers tab. The item and related instructions were removed from the Information Technology tab.

One commenter objected to the NCUA extending the timeframe for reporting planned operational changes to 24 months. Since some credit unions are eligible for an extended exam cycle of up to 20 months, the NCUA believes the extension to 24 months will enable exam staff to monitor operations without an onsite presence.

Besides this comment and the concerns with reporting vendor and product information, which are discussed in the Other Comments Received section, the NCUA did not receive any comments and will proceed with these changes.

Grants Tab

The NCUA proposed removing the Grants tab. No comments related to these changes were received, so the NCUA will proceed with these changes.

Merger Partner Registry Tab

The NCUA proposed adding an item for MDIs to express interest in being considered an MDI merger partner. One commenter asked why the NCUA needs this information and how it will be used.

The NCUA strives to preserve MDI credit unions and will use this information to identify merger partners for MDIs. The NCUA can preserve the MDI status by merging MDIs. As a group, MDI credit unions work to offer safe, fair, and affordable financial services to individuals and communities that may otherwise lack access to them. In doing so, MDI credit unions help their members build greater financial security and help address historical inequities in the financial system. After considering this comment, the NCUA will proceed with these changes.

Other Comments Received

The NCUA also received comments related to the added burden on credit unions, adherence to the Administrative Procedure Act, and the confidentiality and security of vendor, product, or system information.

Burden

Two commenters were concerned with the increase in burden. While we understand these concerns, we do not expect these revisions will result in a material increase in reporting burden. The information needed to complete the new questions is readily available and, as with all information on the Profile, the information must be reported only once and will then be pre-populated every quarter. Unless the information changes, the credit union will not need to report it every quarter. Also, these new items will improve our off-site monitoring, which will reduce the burden of on-site examinations.

Administrative Procedure Act

The NCUA agrees on the importance of following the Administrative Procedure Act when it applies and in providing opportunities for input and transparency even when it does not. The NCUA does not believe any of the proposed changes require notice and comment under the Administrative Procedure Act, and the commenter did not specifically identify any items that it believes would have required this process. Nonetheless, the NCUA has increased the transparency of the Call Report and Profile update processes by publishing notifications to the NCUA website and sending emails to the public to advise of open comment periods and encourage public input.

Confidentiality and Security

Three commenters expressed a concern with the collection of vendor, product, or system information. These commenters noted this information would be publicly available. Information required to be submitted to the NCUA in response to a field marked as non-public will be treated as commercial confidential financial information if it meets the requirements in 12 CFR part 792.

One of these commenters was concerned with the security measures—such as encryption, access controls, and secure storage—the NCUA will employ to ensure this information is not disclosed to unauthorized parties. To protect all sensitive data collected from credit unions, the NCUA employs industry standards such as 256-bit encryption, stringent access control protocols, multi-factor authentication, and secure isolated storage solutions compliant with National Institute of Standards and Technology guidelines.

Collecting vendor, product, and system information on the Profile helps the NCUA properly scope examination and supervision contacts, proactively identify credit unions impacted by events (for example, cyber incidents) and perform data analysis across the industry. Cyber criminals, foreign adversaries, and money launderers continue to exploit vulnerabilities identified across U.S. critical infrastructure sectors.

Affected Public: Private Sector: Not-for-profit institutions.

Estimated Number of Respondents: 4,572.

Estimated Number of Responses per Respondent: 4.

Estimated Total Annual Responses: 18,848.

Estimated Hours per Response: 2.

Estimated Total Annual Burden Hours: 36,576.

Reason for Change: Burden decreased due to a decrease in the number of respondents.

Request for Comments: Comments submitted in response to this notice will be summarized and included in the request for Office of Management and Budget approval. All comments will become a matter of public record. The public is invited to submit comments concerning: (a) whether the collection of information is necessary for the proper performance of the function of the agency, including whether the information will have practical utility; (b) the accuracy of the agency's estimate of the burden of the collection of information, including the validity of the methodology and assumptions used; (c) ways to enhance the quality, utility, and clarity of the information to be collected; and (d) ways to minimize the burden of the collection of the information on the respondents, including the use of automated collection techniques or other forms of information technology.

By the National Credit Union Administration Board.
Melane Conyers-Ausbrooks,
Secretary of the Board.

[FR Doc. 2024-24092 Filed 10-17-24; 8:45 am]

BILLING CODE 7535-01-P